DEPARTMENT OF COMMERCE

National Oceanic and Atmospheric Administration (NOAA), Science Advisory Board

[Docket Number: 121129666-2666-01]

RIN 0648-XC378

Notice of Availability of Draft Report of the NOAA Research and Development Portfolio Review Task Force and Request for Comments

AGENCY: Office of Oceanic and Atmospheric Research (OAR), National Oceanic and Atmospheric Administration (NOAA), Department of Commerce (DOC).

ACTION: Notice of availability and request for public comment.

Authority: 5 U.S.C. App.

SUMMARY: NOAA's Office of Oceanic and Atmospheric Research (OAR) publishes this notice on behalf of the NOAA Science Advisory Board (SAB) to announce the availability of the draft report of the SAB Research and Development Portfolio Review Task Force (PRTF) for public comment.

DATES: Comments on this draft report must be received by 5:00 p.m. on January 23, 2013.

ADDRESSES: The Draft Report of the PRTF will be available on the NOAA Science Advisory Board Web site at: http://www.sab.noaa.gov/Reports/prtf.html.

The public is encouraged to submit comments electronically to noaa.sab.comments@noaa.gov. For individuals who do not have access to the Internet, comments may be submitted in writing to: NOAA Science Advisory Board (SAB) c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-734-1459) during normal business hours of 9 a.m. to 5 p.m. Eastern Time, Monday through Friday, or visit the NOAA SAB Web site at http://www.sab.noaa.gov.

For general information about the PRTF please visit the SAB Web site: http://www.sab.noaa.gov/Working_Groups/current/SAB%20R&D%20PRTF%20Terms%20of%20Reference%20Final%2005-09-12.pdf.

SUPPLEMENTARY INFORMATION: The SAB is chartered under the Federal Advisory Committee Act and is the only Federal Advisory Committee with the responsibility to advise the Under Secretary of NOAA on long- and short-term strategies for research, education, and application of science to resource management and environmental assessment and prediction. The PRTF is a subcommittee of the SAB. The PRTF is charged with providing recommendations on NOAA's current and future scientific research; this draft report was prepared in response to a NOAA request in November 2011 for the SAB to conduct a needs-based review and prioritization of NOAA's research and development (R&D) portfolio. The PRTF's review was to include identification of gaps and areas appropriate for consolidation with on-going efforts strongly linked to NOAA's current Strategic Plan. NOAA, the SAB, and the PRTF recognize the high likelihood of constrained financial resources in the coming years and believe the PRTF's review will provide information that can be used to assist NOAA in timely planning. The SAB was also asked to provide advice on an appropriate organizational approach, within NOAA, for support of this R&D portfolio.

NOAA welcomes all comments on the content of the draft report. We also request comments on any perceived inconsistencies within the report, and possible omissions of important topics or issues. For any shortcoming noted within the report, please propose specific remedies. Suggested changes will be incorporated where appropriate, and a final report will be posted on the SAB Web site prior to the February 2013 SAB teleconference meeting. This draft report is being issued for comment only and is not intended for interim use.

Complying with the following instructions will facilitate the processing of comments and assure that all comments are appropriately considered. (1) Identify the person providing the comments by name and organization. (2) Overview comments should be provided first and should be numbered. (3) Comments that are specific to particular pages, paragraphs or lines of the section should follow any overview comments and should identify the page and line numbers to which they apply. (4) Please number each page of your comments.

Dated: December 17, 2012.
Jason Donaldson,
Chief Financial Officer, Office of Oceanic and Atmospheric Research, National Oceanic and Atmospheric Administration.

[FR Doc. 2012-30884 Filed 12-21-12; 8:45 am]

BILLING CODE 3510-KD-P